DEPARTMENT OF COMMERCE

National Oceanic and Atmospheric Administration

RIN 0648-XF18

General Advisory Committee to the U.S. Section to the Inter-American Tropical Tuna Commission; Meeting Announcement

AGENCY: National Marine Fisheries Service (NMFS), National Oceanic and Atmospheric Administration (NOAA), Commerce.

ACTION: Notice of public meeting.

SUMMARY: NMFS announces a meeting, via teleconference, of the General Advisory Committee to the U.S. Section to the Inter-American Tropical Tuna Commission (IATTC) in February 2008. Meeting topics are provided under the SUPPLEMENTARY INFORMATION section of this notice.

DATES: The meeting will be held on February 20, 2008, from 10 a.m. to 12 p.m. (or until business is concluded), Pacific time.

ADDRESSES: The meeting will be held via teleconference. Please notify Allison Routt prior to February 13, 2008, to receive dial in information and of your intent to participate in this teleconference.

FOR FURTHER INFORMATION CONTACT: Allison Routt at (562) 980-4019 or (562) 980-4030.

SUPPLEMENTARY INFORMATION: In accordance with the Tuna Conventions Act, as amended, the Department of State has appointed a General Advisory Committee to the U.S. Section to the IATTC. The U.S. Section consists of the four U.S. Commissioners to the IATTC and the representative of the Deputy Assistant Secretary of State for Oceans and Fisheries. The Advisory Committee supports the work of the U.S. Section in a solely advisory capacity with respect to U.S. participation in the work of the IATTC, with particular reference to the development of policies and negotiating positions pursued at meetings of the IATTC. NMFS, Southwest Region, administers the Advisory Committee in cooperation with the Department of State.

Meeting Topics

The General Advisory Committee will meet to receive and discuss information on: (1) 2007 and 2008 IATTC activities, (2) activities of the Commerce and State Departments and the Pacific Fishery Management Council and Western Pacific Fishery Management Council as they relate to the IATTC, including scientific developments, (3) upcoming meetings of the IATTC, including issues such as: conservation and management measures for yellowfin and bigeye tuna for 2008 and beyond, measures to be taken in the absence of conservation and management measures, management of fishing capacity, and other issues, (4) IATTC cooperation with other regional fishery management organizations, and (5) administrative matters pertaining to the General Advisory Committee.

Special Accommodations

The meeting is via teleconference. Requests for special accommodations, issues, and needs should be directed to Allison Routt at (562) 980-4019 or (562) 980-4030 by February 13, 2008.

Dated: January 18, 2008.
Emily H. Menashes,
Acting Director, Office of Sustainable Fisheries, National Marine Fisheries Service.

[FR Doc. E8-1311 Filed 1-24-08; 8:45 am]

BILLING CODE 3510-22-S